DEPARTMENT OF HOMELAND SECURITY

Coast Guard

33 CFR Part 165

[Docket No. USCG-2014-0646]

Safety Zones; Annual Events Requiring Safety Zones in the Captain of the Port Lake Michigan Zone—Sister Bay Marinafest Fireworks, Sister Bay, WI

AGENCY: Coast Guard, DHS.

ACTION: Notice of enforcement of regulation.

SUMMARY: The Coast Guard will enforce the safety zone on Green Bay in Sister Bay, WI for the Sister Bay Marinafest Fireworks. This zone will be enforced from 8:30 p.m. until 10:30 p.m. on August 30, 2014. This action is necessary and intended to ensure the safety of life on navigable waters during a fireworks display. During the aforementioned periods, the Coast Guard will enforce restrictions upon, and control movement of, vessels in the safety zone. No person or vessel may enter the safety zone while it is being enforced without permission of the Captain of the Port, Lake Michigan.

DATES: The regulations in 33 CFR 165.929 will be enforced for safety zone (f)(15), Table 165.929, from 8:30 p.m. until 10:30 p.m. on August 30, 2014.

FOR FURTHER INFORMATION CONTACT: If you have questions on this document, call or email MST1 Joseph McCollum, Prevention Department, Coast Guard Sector Lake Michigan, Milwaukee, WI at (414) 747-7148, email joseph.p.mccollum@uscg.mil.

SUPPLEMENTARY INFORMATION: The Coast Guard will enforce the Sister Bay Marinafest Fireworks safety zone listed as item (f)(15) in Table 165.929 of 33 CFR 165.929. Section 165.929 lists many annual events requiring safety zones in the Captain of the Port Lake Michigan zone. The Sister Bay Marinafest Fireworks display zone will encompass all waters of Sister Bay within an 800-foot radius of the launch vessel in approximate position 45°11′35.1″ N, 087°7′23.5″ W (NAD 83). This zone will be enforced from 8:30 p.m. until 10:30 p.m. on August 30, 2014.

All vessels must obtain permission from the Captain of the Port Lake Michigan or the on-scene representative to enter, move within, or exit the safety zone. Requests must be made in advance and approved by the Captain of the Port before transits will be authorized. Approvals will be granted on a case by case basis. Vessels and persons granted permission to enter the safety zone must obey all lawful orders or directions of the Captain of the Port Lake Michigan or a designated representative.

This document is issued under authority of 33 CFR 165.929, Safety Zones; Annual events requiring safety zones in the Captain of the Port Lake Michigan zone and 5 U.S.C. 552(a). In addition to this publication in the Federal Register, the Coast Guard will provide the maritime community with advance notification via Broadcast Notice to Mariners or Local Notice to Mariners that the regulation is in effect. The Captain of the Port Lake Michigan or her on-scene representative may be contacted via Channel 16, VHF-FM.

Dated: July 17, 2014.
A.B. Cocanour,
Captain, U.S. Coast Guard, Captain of the Port, Lake Michigan.

[FR Doc. 2014-17970 Filed 7-29-14; 8:45 am]

BILLING CODE 9110-04-P